DEPARTMENT OF THE INTERIOR

Bureau of Land Management

[LLCOSO50000 L13100000.DB0000]

Notice of Intent To Prepare an Environmental Impact Statement for the Proposed Bull Mountain Unit Master Development Plan, Gunnison County, CO

AGENCY: Bureau of Land Management, Interior.

ACTION: Notice of Intent.

SUMMARY: In compliance with the National Environmental Policy Act of 1969 (NEPA), as amended, and the Federal Land Policy and Management Act of 1976, as amended, the Bureau of Land Management (BLM) Uncompahgre Field Office, Montrose, Colorado, intends to prepare an Environmental Impact Statement (EIS) to analyze a Master Development Plan (MDP) that proposes to drill up to 150 wells within the Bull Mountain Unit (146 natural gas wells and 4 water disposal wells) and to construct associated access roads, pipelines and infrastructure.

DATES: The BLM held a public scoping period while preparing an Environmental Assessment (EA) for the 150-well Bull Mountain Unit MDP from September 21 to November 13, 2009. The preliminary EA was available for a 30-day public comment period from March 23 to April 23, 2012.

ADDRESSES: You may submit comments related to the proposed Bull Mountain Unit MDP by any of the following methods:

• Email: bullmtneis@blm.gov,

• Fax: 970-240-5368,and

• Mail: 2465 South Townsend Ave. Montrose, CO 81401.

Documents pertinent to this proposal may be examined at the BLM Uncompahgre Field Office.

FOR FURTHER INFORMATION CONTACT: For further information and/or to have your name added to our mailing list, contact Jerry Jones, Bull Mountain EIS Project Manager, telephone 970-240-5300; address 2465 South Townsend Ave., Montrose, CO 81401; email bullmtneis@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The proponent, SG Interests, Ltd., submitted an MDP to the BLM for the Bull Mountain Unit. The Unit is located on approximately 19,645 acres of Federal and private subsurface mineral estate approximately 30 miles northeast of the Town of Paonia and bisected by State Highway 133. The proposal is to drill up to 146 natural gas wells and 4 water disposal wells, and develop associated pads, access roads, gas and water pipelines, screw compressors and overhead electric lines. This project was analyzed in a preliminary EA; the BLM determined it is necessary to prepare an EIS due to projected air quality impacts.

The project was initially scoped from October 29 to December 12, 2008, for 55 natural gas wells and 5 water disposal wells. The MDP proposal changed in September 2009 to include up to 146 natural gas wells and 4 water disposal wells. The BLM held a new public scoping period for the revised MDP from September 21 to November 13, 2009. The BLM released the preliminary EA for a 30-day public review and comment period on March 23, 2012.

While there will not be another formal scoping period, all previous comments from the public will be considered in the EIS. The BLM will continue to accept and consider public comments to guide the development of this EIS and the resulting decision. Written comments on the scope of alternatives and issues will be particularly helpful for the BLM. The BLM will provide additional opportunities for public participation upon publication of the Draft EIS

At present, the BLM has identified the following preliminary issues: Air quality; water quality and supply; threatened, endangered, and sensitive wildlife species; wildlife and wildlife habitat; recreation and visual resources; socio-economics; and transportation. The BLM will use NEPA public participation requirements to assist in satisfying the public involvement requirements under Section 106 of the National Historic Preservation Act (NHPA) (16 U.S.C. 470(f)) pursuant to 36 CFR 800.2(d)(3). The information about historic and cultural resources within the area potentially affected by the proposed Bull Mountain Unit MDP will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed Bull Mountain Unit MDP may request or be requested by the BLM to participate in the development of the EIS as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501.7.

Helen M. Hankins,
BLM Colorado State Director.

[FR Doc. 2013-07751 Filed 4-2-13; 8:45 am]

BILLING CODE 4310-JB-P